FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011223-037.

Title: Transpacific Stabilization Agreement.

Parties: APL Co. Pte. Ltd.; American President Lines, Ltd.; COSCO Container Lines Co., Ltd.; Evergreen Marine Corporation (Taiwan) Ltd.; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: Wayne R. Rohde, Esq.; Sher & Blackwell LLP; 1850 M Street, NW.; Suite 900; Washington, DC 20036.

Synopsis: The amendment authorizes additional information exchanges with industry and shipper communities, enhances TSA's research capabilities, updates the membership of Evergreen Marine, and reflects that the substitution of COSCO companies will not take place at this time.

Agreement No.: 011972-001.

Title: HSDG/Alianca/CMA CGM Space Charter Agreement.

Parties: Alianca Navegacao e Logistica Ltda e CIA; CMA CGM, S.A.; and Hamburg-Sudamerikanische Dampfschifffahrts-Gesellschaft KG.

Filing Party: Wayne R. Rohde, Esq.; Sher & Blackwell LLP; 1850 M Street, NW.; Suite 900; Washington, DC 20036.

Synopsis: The amendment would reduce the number of slots chartered to CMA. The parties request expedited review.

Agreement No.: 011982-001.

Title: Evergreen Line Joint Service Agreement.

Parties: Evergreen Marine Corp. (Taiwan) Ltd., Hatsu Marine Ltd., and Italia Marittima S.p.A.

Filing Party: Paul M. Keane, Esq.; 61 Broadway; Suite 3000; New York, NY 10006-2802.

Synopsis: The amendment would add Evergreen Marine (Hong Kong) Ltd. as a party and, effective May 1, 2007, change Hatsu Marine's name to Evergreen Marine (UK) Ltd.

By order of the Federal Maritime Commission.
Dated: March 16, 2007.
Bryant L. VanBrakle,
Secretary.

[FR Doc. E7-5171 Filed 3-20-07; 8:45 am]

BILLING CODE 6730-01-P